DEPARTMENT OF THE TREASURY

Agency Information Collection Activities; Submission for OMB Review; Comment Request; Schedule of Excess Risks

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before January 2, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Bureau of the Fiscal Service (BFS)

Title: Schedule of Excess Risks.

OMB Control Number: 1530-0062.

Type of Review: Extension without change of a currently approved collection.

Description: The information contained in the Schedule of Excess Risks, FS 285-A (Schedule), is collected pursuant to 31 CFR 223.14 and Instruction VII of Treasury's “Annual Letter to Executive Officers of Surety Companies” by the Surety Bond Branch (SBB). The Schedule provides a listing of risks, either written or assumed, that exceed a company's underwriting limitation as established by the Treasury (for companies holding Certificates of Authority from Treasury) or in excess of 10 percent of that company's Policyholders' surplus (for companies applying for certification). Treasury has been mandated at 31 U.S.C. 9304 through 9308, to ensure that companies so certified by Treasury are solvent and able to carry out their contracts. The information contained in this Schedule assists in this analysis.

Form: FS Form 285-A.

Affected Public: Businesses or other for-profits.

Estimated Number of Respondents: 283.

Frequency of Response: One time, Quarterly.

Estimated Total Number of Annual Responses: 1,072.

Estimated Time per Response: 20 hours for new applications and 5 hours for quarterly renewals.

Estimated Total Annual Burden Hours: 5,660.

Authority: 44 U.S.C. 3501 et seq.

Spencer W. Clark,
Treasury PRA Clearance Officer.

[FR Doc. 2024-28119 Filed 11-29-24; 8:45 am]

BILLING CODE 4810-AS-P